DEPARTMENT OF DEFENSE

Office of the Secretary

[Docket ID: DoD-2014-HA-0162]

Submission for OMB Review; Comment Request

ACTION: Notice.

SUMMARY: The Department of Defense has submitted to OMB for clearance, the following proposal for collection of information under the provisions of the Paperwork Reduction Act.

DATES: Consideration will be given to all comments received by August 20, 2015.

FOR FURTHER INFORMATION CONTACT: Fred Licari, 571-372-0493.

SUPPLEMENTARY INFORMATION:

Title, Associated Form and OMB Number: Surveys on Viability of TRICARE Standard and TRICARE Extra; OMB Control Number 0720-0031.

Type of Request: Reinstatement.

Number of Respondents: 50000.

Responses Per Respondent: 1.

Annual Responses: 50000.

Average Burden Per Response: 5 minutes.

Annual Burden Hours: 4167.

Needs and Uses: The survey will gather data on providers (physicians and mental health providers) to assess the extent to which they are aware of the overall TRICARE program, accept new TRICARE Standard patients specifically, and the extent to which these physicians accept Medicare patients. The information gathered through this project will be used to generate reports to address the legislative requirements specified in section 711 of the FY08 NDAA and section 721 of the FY 2012 NDAA. Information resulting from the collection efforts of this project will assist DoD in developing policies and initiatives to improve TRICARE beneficiaries' access to civilian providers. The results of the previous survey efforts have been briefed to, or provided in written communication to the Defense Health Agency and senior DoD personnel, TRICARE Regional Office Directors and their staff, members of Congress, selected state leaders and selected medical societies, staff members of the Government Accountability Office, TRICARE Beneficiary Groups, at the Military Health Service (MHS) Conferences. The results have also been referenced in public media such as the Military Officers Association of America. None of these audiences have ever been provided information that would permit them to identify individual providers, but instead were briefed using aggregate measures of provider knowledge or behavior within specific analysis groups such as health care markets or provider areas of specialization.

Affected Public: Individuals or households.

Frequency: Annually.

Respondent's Obligation: Voluntary.

OMB Desk Officer: Ms. Jasmeet Seehra.

Written comments and recommendations on the proposed information collection should be emailed to Ms. Jasmeet Seehra at the Office of Management and Budget, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DoD Clearance Officer: Mr. Frederick Licari.

Written requests for copies of the information collection proposal should be sent to Mr. Licari at WHS/ESD Directives Division, 4800 Mark Center Drive, East Tower, Suite 02G09, Alexandria, VA 22350-3100.

Dated: July 16, 2015.
Aaron Siegel,
Alternate OSD Federal Register Liaison Officer, Department of Defense.

[FR Doc. 2015-17844 Filed 7-20-15; 8:45 am]

BILLING CODE 5001-06-P